DEPARTMENT OF LABOR

Employment and Training Administration

[TA-W-58,374]

Pacific MDF Products, Inc., of South Carolina; Clio, SC; Notice of Termination of Investigation

Pursuant to section 221 of the Trade Act of 1974, as amended, an investigation was initiated on November 18, 2005 in response to a petition filed by a company official on behalf of workers at Pacific MDF Products, Inc., of South Carolina, Clio, South Carolina.

The petitioner has requested that the petition be withdrawn. Consequently, the investigation has been terminated.

Signed at Washington, DC, this 20th day of December, 2005.
Richard Church,
Certifying Officer, Division of Trade Adjustment Assistance.

[FR Doc. E6-114 Filed 1-9-06; 8:45 am]

BILLING CODE 4510-30-P